DEPARTMENT OF COMMERCE

International Trade Administration

19 CFR Part 351

[Docket No. 100602237-0237-01]

Import Administration IA ACCESS Pilot Program

AGENCY: Import Administration, International Trade Administration, Department of Commerce.

ACTION: Public notice and request for comments.

SUMMARY: The Department of Commerce (the Department) is creating a pilot program to test an electronic filing system in certain antidumping (AD) and countervailing duty (CVD) proceedings. In addition, the Department is requesting comments from parties on this pilot program.

DATES: Effective Date: The pilot program will be in effect from July 1, 2010, through September 30, 2010.

Comments Due Date: Comments on the Department's conduct of the pilot program for electronic filing should be submitted either electronically or manually no later than 30 days after the publication of this notice in the Federal Register.

ADDRESSES: Written comments may be submitted by any of the following methods:

• Federal eRulemaking Portal: http://www.Regulations.gov. All comments must be submitted into Docket Number ITA-2010-XXXX. All comments should refer to RIN 0625-AA84.

• Mail or Hand Delivery/Courier: Please submit the original and two copies of comments to the Secretary of Commerce, Attn: Evangeline Keenan, Import Administration, APO/Dockets Unit, Room 1870, U.S. Department of Commerce, Constitution Avenue and 14th Street, NW., Washington, DC 20230.

• E-mail: Comments may be submitted electronically via e-mail to webmaster-support@ita.doc.gov. Please reference “IA ACCESS Pilot Comments” in the subject line of the e-mail.

FOR FURTHER INFORMATION CONTACT: Evangeline Keenan, Acting APO/Dockets Unit Director, Import Administration, APO/Dockets Unit, Room 1870, U.S. Department of Commerce, Constitution Avenue and 14th Street, NW., Washington, DC 20230; telephone: (202) 482-9157.

SUPPLEMENTARY INFORMATION:

Background

The Department is undertaking a review of its regulations in AD and CVD proceedings governing the submission of information to the Department, currently 19 CFR part 351, subpart C, with a view to the adoption of rules and procedures that will implement an electronic filing system, which will be entitled Import Administration's Antidumping and Countervailing Duty Centralized Electronic Service System (IA ACCESS). The Department's current rules on the submission of information in AD and CVD proceedings, at 19 CFR 351.303(c)(1), require that parties submit six paper copies of each submission to the Department. In developing IA ACCESS, the Department seeks to expand the public's access to the Department's AD and CVD proceedings by making all publicly filed documents available on the internet and to facilitate the electronic submission of documents to the Department in AD and CVD proceedings by allowing interested parties to file documents electronically. The Department envisions that such a system will create efficiencies in both the process and costs associated with filing and maintaining documents pertaining to AD and CVD proceedings.

The pilot program will implement IA ACCESS on a small scale to allow the Department to evaluate and gain experience with operating an electronic filing system. Implementation of the full electronic filing system will be accomplished through a later rulemaking that will amend the Department's regulations; the Department also intends to provide more detailed procedures for IA ACCESS in a document separate from the regulations, which the Department intends to publish on its Web site prior to issuing regulations creating IA ACCESS. IA ACCESS will be implemented in three separate phases, or releases, with each phase implementing an additional feature of IA ACCESS. These phases will allow (1) The electronic submission of documents, (2) the electronic release of public documents, and (3) the electronic release of business proprietary documents to authorized applicants. Each phase will be preceded by a pilot program designed to test and evaluate the functionality of that release.

IA ACCESS Pilot Program on Electronic Filing

The Department is creating an IA ACCESS pilot program for electronic submission of documents to enable it to evaluate and gain experience with operating an electronic filing system before amending its existing regulations. The pilot program will test the functionality of submitting documents electronically in IA ACCESS. This pilot program will run from July 1, 2010, through September 30, 2010, and will be in effect for interested parties participating in the AD and CVD proceedings enumerated below. In order to utilize the IA ACCESS pilot program, parties will need access to an internet connection and will be required to follow the instructions on using the system enumerated in the “IA ACCESS Pilot User Guide,” which the Department will publish on its Web site at http://www.trade.gov/ia prior to the start of the pilot. The Department will also waive the filing requirements in 19 CFR 351.303(c)(1) for parties participating in the pilot. In place of these requirements, where parties have filed a document electronically through IA ACCESS, parties need only submit one signed original and one copy of a public document or one signed original and two public versions of a business proprietary document. Except for this modification to the filing requirements in 19 CFR 351.303(c)(1), all other filing requirements under the Department's regulations will remain in effect under the pilot program. This pilot program only concerns the electronic submission of documents, and pilot programs for other releases (i.e., the electronic release of public and business proprietary documents) will be conducted at a later date. Parties to AD and CVD proceedings not enumerated below must continue to follow the Department's current regulations governing the submission of information to the Department.

The IA ACCESS pilot program will be in effect for interested parties participating in the following proceedings:

AD Proceedings

A-201-822: Stainless Steel Sheet and Strip in Coils from Mexico—Administrative Review 07/01/08-06/30/09;

A-201-836: Light-Walled Rectangular Pipe and Tube from Mexico—Administrative Review 01/30/08-7/31/09;

A-351-828: Certain Hot-Rolled Flat-Rolled Carbon Quality Steel Products from Brazil—Administrative Review 03/01/08-02/28/09;

A-351-828: Certain Hot-Rolled Flat-Rolled Carbon Quality Steel Products from Brazil—Administrative Review 03/01/09-02/28/10;

A-357-812: Honey from Argentina—Administrative Review 12/01/08-11/30/09;

A-421-811: Carboxymethylcellulose from the Netherlands—Administrative Review 07/01/08-06/30/09;

A-570-836: Glycine from the People's Republic of China—Administrative Review 03/01/09-02/28/10;

A-570-916: Laminated Woven Sacks from the People's Republic of China—Administrative Review 01/31/08-07/31/09;

A-570-922: Raw Flexible Magnets from the People's Republic of China—New Shipper Review (Jingzhou Meihou Flexible Magnet Company, Ltd.) 09/01/09-02/28/10;

A-570-924: Polyethylene Terephthalate (Pet) Film from the People's Republic of China—Administrative Review 11/06/08-10/31/09;

A-570-964: Seamless Refined Copper Pipe and Tube from the People's Republic of China—Investigation;

A-588-857: Welded Large Diameter Line Pipe from Japan—Administrative Review 12/01/08-11/30/09;

CVD Proceedings

C-570-968: Aluminum Extrusions from the People's Republic of China—Investigation;

C-580-818: Corrosion-Resistant Steel Flat Products from the Republic of Korea—Administrative Review 01/01/2008-12/31/2008.

The Department will contact the parties to these proceedings individually concerning their participation in the pilot prior to the program's commencement. Participants should be prepared to provide feedback and suggestions for the improvement of IA ACCESS after completion of the pilot program.

Request for Comments

The Department also requests public comments on the Department's proposed conduct of the IA ACCESS pilot program described above. Comments must be filed no later than 30 days after the publication of this notice in the Federal Register. Comments may be submitted either electronically or in paper form to the address specified above. The Department will consider all comments received before the close of the comment period in developing and implementing the IA ACCESS pilot program. Comments received after the end of the comment period may be considered, if possible, but their consideration cannot be assured. The Department will not accept comments accompanied by a request that part or all of the material be treated confidentially because of its business proprietary nature or for any other reason. Such comments will be returned to the persons submitting the comments and will not be considered by the Department. All comments responding to this notice will be a matter of public record and will be available for inspection and copying at Import Administration's Central Records Unit, Room 1117, on the Federal eRulemaking Portal at www.Regulations.gov, and in Portable Document Format (PDF) on the Department's Web site at http://www.trade.gov/ia/. Comments submitted electronically need not also be submitted in hard copy.

Persons wishing to submit written comments in hard copy should file one signed original and two copies of each set of comments to the address specified above. Persons wishing to comment electronically should submit comments to the Federal eRulemaking Portal at http://www.Regulations.gov as specified above or via e-mail to webmaster-support@ita.doc.gov. Any questions concerning file formatting, document conversion, access on the Internet, or other electronic filing issues should be addressed to Andrew Lee Beller, Import Administration Webmaster, at (202) 482-0866, e-mail address: webmaster-support@ita.doc.gov.

Dated: May 28, 2010.
Paul Piquado,
Acting Deputy Assistant Secretary for Import Administration.

[FR Doc. 2010-13733 Filed 6-7-10; 8:45 am]

BILLING CODE 3510-DS-P